DEPARTMENT OF HEALTH AND HUMAN SERVICES

Indian Health Service

List of Recipients of Indian Health Scholarships under the Indian Health Scholarship Program

The regulations governing Indian Health Care Improvement Act Programs (Pub. L. 94-437) provide at 42 CFR 36.334 that the Indian Health Service shall publish annually in the Federal Register a list of recipients of Indian Health Scholarships, including the name of each recipient, school and tribal affiliation, if applicable. These scholarships were awarded under the authority of sections 103 and 104 of the Indian Health Care Improvement Act, 25 U.S.C. 1613-1613a, as amended by the Indian Health Care Amendments of 1988, Pub. L. 100-713.

The following is a list of Indian Health Scholarship Recipients funded under sections 103 and 104 for Fiscal year 2002:

Abeita, Steven John, University of New Mexico—Albuquerque, Pueblo of Isleta, NM Acothley, Regina, University of New Mexico—Albuquerque, Navajo Tribe of Arizona, New Mexico, & Utah.

Adakai, Tamelyn Blythe, Arizona State University, Navajo Tribe of Arizona, New Mexico, & Utah

Adams Moses, Cynthia Regina, Tulsa Junior College, Muskogee (Creek) Nation, Oklahoma

Adams, Andrea L., University of North Dakota, Assiniboine & Sioux Tribes of the Fort Peck Indian Reservation, MT

Aitson, Joseph James, Cameron University, Kiowa Indian Tribe of Oklahoma

Albers, Travia Alan, University of Maryland, Turtle Mountain Band of Chippewa Indians of North Dakota

Alcorn, Winter Dawn, Rogers State College, Cherokee Nation, Oklahoma

Alden Littlelight, Roanne Gail, Pacific University College, Crow Tribe of Montana

Alden-Diaz, Lorrie Elison, Salt Lake Community College, Crow Tribe of Montana

Alexander, Lise Kalliah, University of Washington School of Medicine, Confederated Tribes of the Grand Ronde Community of Oregon

Allery, Lonnie William, University of North Dakota, Turtle Mountain Band of Chippewa Indians of North Dakota

Allick, Shannon Lynn, Minot State University, Turtle Mountain Band of Chippewa Indians of North Dakota

Allison, Carol Ann, Montana State University—Northern, Turtle Mountain Band of Chippewa Indians of North Dakota

Allison, Roselinda, University of Phoenix, Navajo Tribe of Arizona, New Mexico, & Utah

Allison-Quick, Eunice Mary, University of Oregon, Blackfeet Tribe of the Blackfeet Indian Reservation of MT

American Horse, Candace, Montana State University—Billings, Northern Cheyenne Tribe of the Northern Cheyenne Indian Reservation, MT

Anagal, Laura Ann, Northland Pioneer College, Navajo Tribe of Arizona, New Mexico, & Utah

Anagick, Laverne Kathryn, University of Alaska School of Nursing, Native Village of Unalaklett

Anderson, Destiny Dawn, University of North Dakota, Blackfeet Tribe of the Blackfeet Indian Reservation of MT

Anderson, Ella Mae, Gateway Community College, Navajo Tribe of Arizona, New Mexico, & Utah

Anderson, Sandra Dee, Arizona State University, Navajo Tribe or Arizona, New Mexico, & Utah

Andis, Letetia Lynn, Bacone College, Cherokee Nation, Oklahoma

Armijo, Heather Denise, New Mexico State University, pueblo of Jemez, NM

Arnold, Carly Ellen, Northern Arizona University, Navajo Tribe of Arizona, New Mexico, & Utah

Arnold, Delphine, University of New Mexico—Gallup, Navajo Tribe of Arizona, New Mexico, & Utah

Arredondo, LaDonna Leann, Southwestern Oklahoma State University, Choctaw Nation of Oklahoma

Ashley, Jeannette, New Mexico State University—Albuquerque, Navajo Tribe of Arizona, New Mexico, & Utah

Ashmore, Audra Wabaunsee, University of Oklahoma, Seneca—Cayuga of Oklahoma

Atene, Kathleen Cheryl, Northern Arizona University, Navajo Tribe of Arizona, New Mexico & Utah

Azure, Alissa Joy, University of North Dakota, Turtle Mountain Band of Chippewa Indians of North Dakota

Babcock, Amy Roxanne, Tulsa City Area Voc Tech School, Cherokee Nation, Oklahoma

Baca, Vonda Jean, Albuquerque Tech—Voc Institute, Pueblo of Jemez, NM

Baca, Wilma Joyce, Albuquerque Tech—Voc Institute, Pueblo of Jemez, NM

Bacoch, Michaele, University of the Pacific School of Pharmacy, Big Pine Band of Owens Valley Paiute Shoshone Indians of the Big Pine Reservation, CA

Bain, Edlin David, University of New Mexico College of Pharmacy, Navajo Tribe of Arizone, New Mexico, & Utah

Barbone, Michelle Dawn, Arizona State University, Navajo Tribe of Arizona, New Mexico, & Utah

Barnes, Kellie Elizabeth, University of Oklahoma, Chickasaw Nation, Oklahoma

Barnett, Stephanie Deann, University of Tulsa, Cherokee Nation, Oklahoma

Barry, Christina Jean, University of South Alabama, Central Council of the Tlingit & Haida Indian Tribes

Barse, Allison Joy, Kansas Newman College, Kickapoo Tribe of Oklahoma

Bartlett, Lyndell Joy, Montana State University—Bozeman, Cheyenne River Sioux Tribe of the Cheyenne River Reservation, SD

Bates, Vanesscia, Washington University, Navajo Tribe of Arizona, New Mexico, & Utah

Battese, Kelly Joseph, University of Kansas School of Pharmacy, Miami Tribe of Oklahoma

Bearmedicine, Jennifer Lynn, Salish—Kooteenai Community College, Blackfeet Tribe of the Blackfeet Indian Reservation of MT

Becenti, Shawnadine Karen, University of New Mexico—Albuquerque, Navajo Tribe of Arizona, New Mexico, and Utah

Becenti, Thelissa Leann, University of New Mexico, Navajo Tribe of Arizona, New Mexico, & Utah

Beetso, Allyson Nicole, Phoenix College, Navajo Tribe of Arizona, New Mexico, & Utah

Beetso, Juanita, University of New Mexico—Albuquerque, Navajo Tribe of Arizona, New Mexico, & Utah

Begay, Carlyle-Wilmer, University of Arizona, Navajo Tribe of Arizona, New Mexico, & Utah

Begay, Dawn Dora, Northern Arizona University, Navajo Tribe of Arizona, New Mexico, & Utah

Beegay, Grace Delcinia, University of New Mexico—Albuquerque, Navajo Tribe of Arizona, New Mexico, & Utah

Begay, Lisa Danelle, University of New Mexico, Navajo Tribe of Arizona, New Mexico, & Utah

Begay, Lorena Rose, La Sierra University, Navajo Tribe of Arizona, New Mexico, & Utah

Begay, Michelle, University of Arizona, Navajo Tribe of Arizona, New Mexico, & Utah

Begay, Paula Moiselle, Weber State University, Navajo Tribe of Arizona, New Mexico, & Utah

Begay, Pierrette Rose, University of New Mexico—Albuquerque, Navajo Tribe of Arizona, New Mexico, & Utah

Begay, Sheena Maria, New Mexico State University, Navajo Tribe of Arizona, New Mexico, & Utah

Begay, Tamana Dollicia, University of the Pacific, Navajo Tribe of Arizona, New Mexico, & Utah

Begay, Velma Mae, University of New Mexico—Albuquerque, Navajo Tribe of Arizona, New Mexico, & Utah

Begaye, Julianna, University of New Mexico—Albuquerque, Navajo Tribe of Arizona, New Mexico, & Utah

Behymer, Virginia May, University of Alaska—Anchorage, Aleut, AK

Belcourt, Jaime Ruth, Montana State University School of Nursing, Three Affiliated Tribes of the Fort Berthol Reservation, ND

Benally, Jolene, Arizona Western College, Navajo Tribe of Arizona, New Mexico, & Utah

Benally, Yolanda Jean, New Mexico State University, Navajo Tribe of Arizona, New Mexico, & Utah

Benally-Thompson, Bret R., University of Minnesota—Duluth, Minnesota Chippewa Tribe (White Earth Band)

Berg, Emily Wauneka, Fort Lewis College, Navajo Tribe of Arizona, New Mexico, & Utah

Berger, Jeffrey Michael N., Fort Peck Community College, Assiniboine & Sioux Tribes of the Fort Peck Indian Reservation, MT

Berryman, Mykala Sara, University of Oklahoma—Norman, Choctaw Nation of Oklahoma

Bessette, Megan Holly, Whitman College, White Mountain Apache Tribe of the Fort Apache Reservation, AZ, Wichita and Affiliated Tribes (Wichita, Keechi, Waco & Tawakonie), OK

Beyale, Shannon Marie, University of Oklahoma—Norman, Choctaw Nation of Oklahoma

Big Man, Luzenia Yellowmule, University of New Mexico—Albuquerque, Crow Tribe of Montana

Bigback, Jennifer Lee, Ohio State University College of Medicine, Northern Cheyenne Tribe of the Northern Cheyenne Indian Reservation, MT

Bighorse, Amanda Nicole, Northeastern State University, Cherokee Nation, Oklahoma

Bill, Miranda Lee, Cal State University Chico, Cortina Indian Rancheria of Wintun Indians of California

Billy, Larissia Jenny, University of Nevada—Reno, Blackfeet Tribe of the Blackfeet Indian Reservation of MT

Bingham, Zachary Scott, University of New Mexico—Albuquerque, Cherokee Nation, Oklahoma

Bishop, Jennifer Lynn, University of Tulsa, Seneca—Cayuga Tribe of Oklahoma

Blackwater, Temerra, The University of Utah, Navajo Tribe of Arizona, New Mexico, & Utah

Blackwater, Vera, New Mexico Highland University, Navajo Tribe of Arizona, New Mexico, & Utah

Blevins, Reigna Kay, North Dakota State University, Choctaw Nation of Oklahoma

Blindman, Charlene Sue, Arizona State University, Navajo Tribe of Arizona, New Mexico, & Utah

Blue Arm, Noelle E., University of North Dakota, Cheyenne River Sioux Tribe of the Cheyenne River Reservation, SD

Blue, Sheanoa Lynn, Turtle Mountain Community College, Turtle Mountain Band of Chippewa Indians of North Dakota

Boling, Adella Krista Marie, Pacific University College, Cheyenne River Sioux Tribe of the Cheyenne River Reservation, SD

Booth, Loretta Marie, Pacific University College, Cheyenne River Sioux Tribe of the Cheyenne River Reservation, SD

Bowers, Joel N., Paris Junior College, Choctaw Nation of Oklahoma

Bowles, Charles Justin, Oklahoma State University, Citizen Potawatomi of Oklahoma

Boyd, Cassandra Iva, University of New Mexico—Albuquerque, Navajo Tribe of Arizona, New Mexico, & Utah

Boyd, Evelyn Marie, Presentation College, Rosebud Sioux Tribe of the Rosebud Indian Reservation, SD

Bradley, Stephanie, East Carolina University School of Medicine, Eastern Band of Cherokee Indians of North Carolina

Brady, Meagan Leigh, University of Oklahoma, Comanche of Oklahoma

Branham, Jamie Kathleen, University of Iowa Dental School, Cherokee Nation, Oklahoma

Brantingham, Michael James, Pacific Union College, Eskimo

Bressman, Rebecca Rae, Portland Community College, Citizen Potawatomi Nation, Oklahoma

Brewster, Sarah Kate, Oklahoma State University, Muskogee (Creek) Nation, Oklahoma

Briggs, Misty Elaine, Northeastern State University, Cherokee Nation, Oklahoma

Brinson, Timothy James, East Central University, Citizen Potawatomi Nation, Oklahoma

Brooks, Lisa Michelle, University of Maryland, Oglala Sioux Tribe of the Pine Ridge Reservation, SD

Brooks-Dugger, Shelly Beth, Southwest Texas State University, Cherokee Nation, Oklahoma

Brorby, Misty Dawn, University of North Dakota, Turtle Mountain Band of Chippewa Indians of North Dakota

Brown, Amanda Susan, Montana State University—Billings, Assiniboine, & Sioux Tribes of the Fort Peck Indian Reservation, MT

Brown, Christina Ann, University of California—San Diego, Paiute—Shoshone Indians of the Bishop Community of the Bishop Colony, CA

Brown, Laverne, University of New Mexico—Gallup, Navajo Tribe of Arizona, New Mexico, & Utah

Brown, Tamara Danielle, University of Washington, Walker River Paiute Tribe of the Walker River Reservation, Nevada

Bryant, Idella Marie, Midwestern University, Navajo Tribe of Arizona, New Mexico, & Utah

Bryant, Joseph Preston, Southwestern Oklahoma State University, Cherokee Nation, Oklahoma

Buckner, Jennifer Lynn, University of New Mexico—Albuquerque, Cheyenne—Arapaho Tribes of Oklahoma

Buenting, Lisa Lynette, Lowa Linda University, Mesa Grande Band of Diegueno Mission Indians of the Mesa Grande Reservation, CA

Bull, Lois Ann, University of North Dakota, Three Affiliated Tribes of the Fort Berthold Reservation, ND

Bunting, Tischa Lee, Butler County Community College, Cherokee Nation, Oklahoma Burbank, Lenora Michele, Northern Arizona University, Navajo Tribe of Arizona, New Mexico, & Utah

Burk, Kristi Carroll, Fort Lewis College, Alaska Native Burkhart, Lisa Marie Foster, University of Colorado—Colorado Springs, Navajo Tribe of Arizona, New Mexico, & Utah

Burnside, Clint Ed, University of Arizona, Navajo Tribe of Arizona, New Mexico, & Utah

Burris, Brandon Christopher, University of Texas—Austin, Caddo Indian Tribe of Oklahoma

Burr-Selle, Kandi Kay, University of North Dakota, Three Affiliated Tribes of the Fort Berthold Reservation, ND

Busch, Richard Eugene, University of Alaska—Fairbanks, Alaska Native Butte, Jennifer Lynn, Glendale Community College, Navajo Tribe of Arizona, New Mexico, & Utah

Butterfly, Glenn Curtis, Pima Medical Institute, Blackfeet Tribe of the Blackfeet Indian Reservation of MT

Calf Looking, John Fitzgerald, University of Washington Medex Northwest Program, Blackfeet Tribe of the Blackfeet Indian Reservation of MT

Calf Robe, Douglas Wayne, University of Washington Medex Northwest Program, Blackfeet Tribe of the Blackfeet Indian Reservation of MT

Callan, Cheryl Janine, Northern Arizona University, Navajo Tribe of Arizona, New Mexico, & Utah

Calvin, Shawn Allen, University of Oklahoma Health Sciences Center, Choctaw Nation of Oklahoma

Campbell, Jamie Renae, University of Oklahoma, Muskogee (Creek) Nation, Oklahoma

Carey, Amanda Kay, Northeastern State University, Cherokee Nation, Oklahoma

Carlson, Ingrid Marie, University of Washington Medex Northwest Program, Qagan Tayagungin Tribe of Sand Point Village

Carter, Jason Daniel, University of Oklahoma Health Sciences Center, Cherokee Nation, Oklahoma

Carter, Nani Danielle, Unversity of Oklahoma Health Science, Cherokee Nation, Oklahoma

Cary, Brenda Lee, University of Minnesota—Twin Cities Medical School, Oneida Tribe of Indians of Wisconsin

Cassutt, Robyn-Amonda, Dakota Wesleyan, Central Council of the Tlingit & Haida Indian Tribes

Castillo, Genevieve, TVI Community College, Navajo Tribe of Arizona, New Mexico, & Utah

Cavanaugh, Casey Lynne, Idaho State University, Paiute—Shoshone Tribes of the Duck Valley Reservation, NV

Caylor, Ruby Leona, Dakato Wesleyan University, Yankton Sioux Tribe of South Dakota

Champ, Jonalena, University of Houston, Crow Tribe of Montana

Chapman, Christy Shannon, University of New Mexico, Zuni Tribe of the Zuni Reservation, NM

Charette, Nicole Lynn, University of North Dakota, Turtle Mountain Band of Chippewa Indians of North Dakota

Charles, Tracey Roseann, University of Tennessee—Memphis, Choctaw Nation of Oklahoma

Chavez, Leann Ahkeebah, University of New Mexico—Albuquerque, Navajo Tribe of Arizona, New Mexico, & Utah

Chee, Lorinda, Gateway Community College, Navajo Tribe of Arizona, New Mexico, & Utah

Chee, Rochanda G., University of New Mexico, Navajo Tribe of Arizona, New Mexico, & Utah

Chelberg, Robert Paul, University of Massachusetts, Red Cliff Band of Lake Superior Chippewa Indians of Wisconsin

Childress, Michelle Josett, University of Central Oklahoma, Seminole Nation of Oklahoma

Chimoni, Reinette J., University of New Mexico—Gallup, Zuni Tribe of the Zuni Reservation, NM

Clancy, Vanessa Mae, Montana State University—Northern, Assiniboine & Sioux Tribes of the Fort Peck Indian Reservation, MT

Clark, Jayne, Northern Arizona University, Navajo Tribe of Arizona, New Mexico, & Utah

Clark, Kari Rose, Mesa Community College, Navajo Tribe of Arizona, New Mexico, & Utah

Clark, Patricia Jane, North Dakota State University, Minnesota Chippewa Tribe (White Earth Band)

Clarke, Alberta D., University of Phoenix, Navajo Tribe of Arizona, New Mexico, & Utah

Clarkson, Rachel Beth, University of Central Oklahoma, Cherokee Nation, Oklahoma

Clauschee, Reginald, Pima Community College, Navajo Tribe of Arizona, New Mexico, & Utah

Clauschee, Susan Francine, Pima Community College, Navajo Tribe of Arizona, New Mexico, & Utah

Clemens, Danielle Nicole, University of New Mexico—Albuquerque, Pueblo of Acoma, NM

Cochran, Arlene Ann, Montana State University—Northern, Fort Belknap Indian Community of the Fort Belknap Reservation of Montana

Cochran, Suzanne, Montana State University—Northern, Fort Belknap Indian Community of the Fort Belknap Reservation of Montana

Colbert, Alexandria Naomii, University of Oklahoma—Norman, Chickasaw Nation of Oklahoma

Coleman, Kristi Lynn, Southwestern Oklahoma State, Choctaw Nation of Oklahoma

Cooeyate, Erin Quin, University of New Mexico—Gallup, Zuni Tribe of the Zuni Reservation, NM

Cook, Elizabeth Jane, Southeastern Oklahoma State University, Choctaw Nation of Oklahoma

Cook, Michael Gerald, University of North Dakota, Turtle Mountain Band of Chippewa Indians of North Dakota

Cooper, April Deann, University of Central Arkansas, Cherokee Nation, Oklahoma

Corson, Hillary Lena, Montana State University—Bozeman, Crow Tribe of Montana

Couch, Ashley, Ariel, Connors, State College, Cherokee Nation, Oklahoma

Coulter, Daniel Lee, Creighton University of School of Medicine, Citizen Potawatomi Nation, Oklahoma

Cox, Gretchen Dove, Fresno City College, Picayune Rancheria of Chukchansi Indians of California

Cree, Sharon, University of North Dakota, Turtle Mountain Band of Chippewa Indians of North Dakota

Cremer, Paul Clay, Princeton University, Choctaw Nation of Oklahoma

Cribbs, Carolyn Suze, Sonoma State University Dept of Nursing, Cherokee Nation, Oklahoma

Croff, Heather Marie, Salish Kootenai College, Blackfeet Tribe of the Blackfeet Indian Reservation of MT

Croley, Amanda Jo, University of Oklahoma Health Sciences Center, Cherokee Nation, Oklahoma

Cross, Bryan Von, University of Oklahoma, Cherokee Nation, Oklahoma

Crow Ghost, Richard Joseph, Bismark State College, Standing Rock Sioux North & South Dakota

Crumley, Jennifer June, Northeastern State University, Choctaw Nation Oklahoma

Cruz, Christina, University of New Mexico, Pueblo of San Juan, NM

Cruz, Leeann Katri, New Mexico State University, Pueblo of Acoma, NM

Cullen Carroll, Shanna Marie, Alliant International University, Osage Tribe, Oklahoma

Cunningham—Hartwig, Roxie, Kim, University of Washington School of Medicine, Nez Perce of Idaho

Dailey, Samuel, University of Alabama—Birmingham, Navajo tribe of Arizona, New Mexico, & Utah

Davis, Allison Kay, University of North Dakota, Crow Creek Sioux Tribe of the Crow Creek Reservation, SD

Davis, Alona, University of North Dakota, Turtle Mountain Band of Chippewa Indians of North Dakota

Davis, Amber Lynn, University of Oklahoma, Muskogee (Creek) Nation, Oklahoma

Davis, Heather Rae, Turtle Mountain Community College, Turtle Mountain Band of Chippewa Indians of North Dakota

Davis, Jason Russell, Lane Community College, Chickasaw Nation, Oklahoma

Davis, Marcia D., Seminole State College, Choctaw Nation of Oklahoma

Dawes, Kari Elaine, University of Iowa, Cherokee Nation, Oklahoma

Day, Autumn Ann, Cornell University, Minnesota Chippewa Tribe, MN (Leech Lake Band)

Decker, Amber Victoria, Rocky Mountain College, Confederated Salish & Kootenai Tribes of the Flathead Reservation, MT

Dees, Marijane Megan, Oklahoma Baptist University, Choctaw Nation of Oklahoma

Dele, Lessina, Midwestern University, Navajo Tribe of Arizona, Mew Mexico, & Utah

Delmar, Marjorie, Northern Arizona University, Navajo Tribe of Arizona, New Mexico, & Utah

Demientieff, Manon Kristine, California State University, Nenana Native Association

Deroche, Elisabeth Louise, Central Washington University, Blackfeet Tribe of the Blackfeet Indian Reservation of MT

Desautel, Alice Junee Lu, Wenatchee Valley College North, Confederated Tribes of the Colville Reservation, WA

Dixon, Damon Brian, University of North Dakota, Hopi Tribe of AZ

Dixon, Malia K., New Mexico Highland University, Navajo Tribe of Arizona, New Mexico, & Utah

Dodson, Trudy Northern Arizona University, Navajo Tribe of Arizona, New Mexico, & Utah

Dominguez, Deborah M., Albuquerque Technical Vocation, Navajo Tribe of Arizona, New Mexico, & Utah

Dominguez, Lorrie Ann, Northern Arizona University, Navajo Tribe of Arizona, New Mexico, & Utah

Draper, Melanie Brooke, University of Alaska School of Nursing, Cherokee Nation, Oklahoma

Dugan, Carysa Malaret, Arizona School of Health Sciences, Nez Perce of Idaho

Duncan, Roberta Marie, University of Arizona, Navajo Tribe of Arizona, New Mexico, & Utah

Dunlap, Erin Lee, University of Oklahoma, Cherokee Nation, Oklahoma

Dunn, Akilah Talibah, Seminole State College, Chickasaw Nation of Oklahoma

Earley, Mary Margaret, University of Tulsa, Cherokee Nation, Oklahoma

Eddy, Julia L., Graceland University, Colorado River Indian Tribes of the Colorado River Indian Reservation, Arizona & California

Eddy, Patricia Ann, Northland Pioneer College, Navajo Tribe of Arizona, New Mexico, & Utah

Eder, Shirley—Anne, Northern Montana College, Assiniboine & Sioux Tribe of the Fort Peck Indian Reservation, MT

Edwards, Kerry Rachelle, University of Oklahoma, Cherokee Nation, Oklahoma

Edwards, Ralph Casey, University of Oklahoma Health Sciences Center, Cherokee Nation, Oklahoma

Elkhair-Brown, Michelle Lianne, Johnson County Community College, Muskogee (Creek) Nation, Oklahoma

Ellis, Scott Anthony, Oklahoma City University, Cherokee Nation, Oklahoma

Elmore, Amber Dawn, Northeastern State University, Chickasaw Nation of Oklahoma

Emerson, Janice Odette, Univerity of Oklahoma Health Sciences Center, Kiowa Indian Tribe of Oklahoma

Endischee, Flonda, University of the Pacific School of Pharmacy, Navajo Tribe of Arizona, New Mexico, & Utah

Epaloose, Cassie, PIMA Community College, Zuni Tribe of the Zuni Reservation, NM

Eriacho, Margaret Alisha, University of New Mexico—Albuquerque, Zuni Tribe of the Zuni Reservation, NM

Etsitty, Marlene J., San Juan College, Navajo Tribe of Arizona, New Mexico, & Utah

Eubanks, Andrea Jill, Connors State College, Cherokee Nation, Oklahoma

Eversole, Maryn, University of New Mexico, Navajo Tribe of Arizona, New Mexico, & Utah

Feather, Sharon Ann, Cankdeska Cikana Community College, Devils Lake Sioux

Fence, Heather Katherine, Angelo State University, Cherokee Nation, Oklahoma

Ferris-Lane, Dana Faye, College of the Redwoods, Hoopa Valley Tribe, CA

Fetzer, John Ward, North Dakota State University, Minnesota Chippewa Tribe (White Earth Band)

Finkbonner, Miriam Ann, Whatcom Community College, Lummi Tribe of the Lummi Reservation, WA

Fisher, Joe Keith, University of New Mexico, Choctaw Nation of Oklahoma

Fishinghawk, Bobbi Genevieve, University of Kansas School of Medicine, Cherokee Nation, Oklahoma

Fishinghawk, Lance Franklin, Northeastern State University, Cherokee Nation, Oklahoma

Foote, Brittnee Irene, Bismarck State College, Turtle Mountain Band of Chippewa Indians of North Dakota

Foster, Melvin Dale, University of New Mexico, Navajo Tribe of Arizona, New Mexico, & Utah

Fragua, Kari Lynn, University of New Mexico—Albuquerque, Pueblo of Jemez, NM

Francis, Kaydee Ann, University of New Mexico—Gallup, Navajo Tribe of Arizona, New Mexico, & Utah

Francis, Michelle J., Northland Pioneer College, Confederated Tribes of the Colville Reservation, WA

Francis, Molly Marie, Creighton University, Confederated Tribes of the Colville Reservation, WA

Francisco, Nalda Yazzie, New Mexco State University, Navajo Tribe of Arizona, New Mexico, & Utah

Franklin, Richard Arnold, Northeastern State University, Cherokee Nation, Oklahoma

Frankovic, Adam Matthew, Central Washington University, Cherokee Nation, Oklahoma

Fredy, Jefferson, University of New Mexico College of Pharmacy, Navajo Tribe of Arizona, New Mexico, & Utah

Freeland-Sam, Veronica Marie, Northern Arizona University, Navajo Tribe of Arizona, New Mexico, & Utah

French, Zachary Ashton, University of Oklahoma, Cherokee Nation, Oklahoma

Friede, Priscilla Jenee, Montana State University, Chippewa Cree Indians of the Rocky Boy's Reservation, MT

Frizzell, Felicia Yelena, Stanford University, Mescalero Apache Tribe of the Mescalero Reservation, NM

Gaddy, Jasmine Reanna, Temple University School of Medicine, Navajo Tribe of Arizona, New Mexico, & Utah

Gamble-Sampson, Wanda, Northern Arizona University, Navajo Tribe of Arizona, New Mexico, & Utah

Gardner, Angela Danita, Rogers State College, Cherokee Nation, Oklahoma

Garner, LaQuita Jo, Great Plains Technology, Mississippi Band of Choctaw Indians, MS

Garness, Mary, University of Wisconsin—Superior, Bad River Band of the Lake Superior Tribe of Chippewa Indians of the Bad River Reservation, WI

Gatewood, Vangie Mae, University of Wisconsin, Bad River Band of the Lake Superior Tribe of Chippewa Indians of the Bad River Reservation, WI

Gerry, Jon Michael, Stanford University, Cheyenne River Sioux Tribe of the Cheyenne River Reservation, SD

Gerry, Ryan Richard, Harvard Medical School, Cheyenne River Sioux Tribe of the Cheyenne River Reservation, SD

Giles, Erin Ayn, Southern College of Optometry, Cherokee Nation, Oklahoma

Gilham, Maureen Eloise, Carroll College, Blackfeet Tribe of the Blackfeet Indian Reservation of MT

Gillies, Kenneth Jay, North Dakota State University, Three Affiliated Tribes of the Fort Berthold Reservation, ND

Gilmore, Jennifer Jane, Dixie State College of Utah, Navajo Tribe of Arizona, New Mexico, & Utah

Girty, Logan Ellis, University of Oklahoma, Caddo Indian Tribe of Oklahoma

Glasses, Devin Garrick, University of Arizona, Navajo Tribe of Arizona, New Mexico, & Utah

Glock-James, Jacquelyn, Southwest Missouri State University, Choctaw Nation of Oklahoma

Gloshay, Jr., Eddie, University of Arizona, White Mountain Apache Tribe of the Fort Apache Reservation, AZ

Gobert, Rachel Rose, Salish Kootenai College, Blackfeet Tribe of the Blackfeet Indian Reservation of MT

Gonzales, Nicolle Lenn, University of New Mexico, Navajo Tribe of Arizona, New Mexico, & Utah

Goodman, Gayla Beth, University of Maryland School of Medicine, Kickapoo Tribe of Oklahoma

Gorman, Duane Thomas, Weber State University, Navajo Tribe of Arizona, New Mexico, & Utah

Gorman, Emmeline Paula, Mesa Community, Navajo Tribe of Arizona, New Mexico, & Utah

Goulet, Jessica Louie, University of North Dakota, Turtle Mountain Band of Chippewa Indians of North Dakota

Granger Nez, Sharon, Coconino County Community College, Navajo Tribe of Arizona, New Mexico, & Utah

Gray, Cori Ann, University of Oklahoma Health Sciences Center, Osage Tribe, Oklahoma

Greenwood, Tami Lynette, East Central University, Choctaw Nation of Oklahoma

Griffith, Kimberly Dawn, Grand Canyon University, Tohono O'odham Nation of Arizona

Groten, Eric Dartanium, University of New Mexico—Albuquerque, Navajo Tribe of Arizona, New Mexico, & Utah

Guin, Heather Elaine, University of Tulsa, Muskogee (Creek) Nation, Oklahoma

Guy, Melissa, University of Colorado Health Science Center, Navajo Tribe of Arizona, New Mexico, & Utah

Haddox, Natalie Rose, Salish Kootenai College, Blackfeet Tribe of the Blackfeet Indian Reservation of MT

Hagerty, Kori Lynn, University of New Mexico—Albuquerque, Blackfeet Tribe of the Blackfeet Indian Reservation of MT Tribe of the Blackfeet Tribe of the Blackfeet Indian Reservation of MT Indian Reservation of MT

Hall, Sheila Marie, Loyola Marymount University, Minnesota Chippewa Tribe (White Earth Band)

Hamby, Kenneth Jerome, Kirksville College of Osteopathic Medicine, Cherokee Nation, Oklahoma

Hammons, Tracie Janene, Connors State College, Cherokee Nation, Oklahoma

Harjo, Rebecca Ruth, University of Southern California School of Social Work, Muskogee (Creek) Nation, Oklahoma

Harker, Erica Michelle, University of New Mexico, Zuni Tribe of the Zuni Reservation, NM

Harrington, Latoya Ann, Arizona State University, Navajo Tribe of Arizona, New Mexico, & Utah

Harris, Elizabeth Kate, Oklahoma State University College of Osteopathic Medicine, Cherokee Nation, Oklahoma

Harris, Lynn Marie, North Carolina State University, Lumbee

Harrison, Gilbert, University of New Mexico, Navajo Tribe of Arizona, New Mexico, & Utah

Harrison, Lisa Lizette, University of Wisconsin, Ho-Chunk Nation of Wisconsin

Hassen, Kathleen Lois, Kalamazoo Valley Community College, Sault St. Marie Tribe of Chippewa Indians of Michigan

Hastie, Carrie Suzette, Purdue University, Orutsararmuit Native Village

Hawkins, Amy Delah, Tulane University Health Sciences Center, Muskogee (Creek) Nation, Oklahoma

Hawley, Edward Carl, Montana State University, Fort Belknap Indian Community of the Fort Belknap Reservation of Montana

Hazeldine, Becky Ann, Northland Community College, Minnesota Chippewa Tribe, MN (Leech Lake Band)

Headdress, Gale Crystal, Northern Montana, Assiniboine & Sioux Tribes of the Fort Peck Indian Reservation, MT

Healing Ground, Dulcie Nicole, University of Minnesota, Turtle Mountain Band of Chippewa Indians of North Dakota

Henderson, Michelle Lynn, University of Texas, Navajo Tribe of Arizona, New Mexico, & Utah

Henio, Regina, University of New Mexico—Gallup, Navajo Tribe of Arizona, New Mexico, & Utah

Henson, Mike Allen, University of Oklahoma Health Service, Comanche of Oklahoma

Henson-Meigs, Amy Jo, University of Tulsa, Cherokee Nation, Oklahoma

Herder, Katrina Joy, Arizona State University, Navajo Tribe of Arizona, New Mexico, & Utah

Hernandez, Evelyn Leone, Walla Walla College, Confederated Salish & Kootenai Tribes of the Flathead Reservation, MT

Hick, Carrie, University of New Mexico College of Pharmacy, Navajo Tribe of Arizona, New Mexico, & Utah

Hicklin, Cheryl, Winston-Salem State University, Seneca Nation of New York

Hicks, Ashley Marion, University of Alaska Anchorage, Mentasta Traditional Council

Hollow, Collette Caroline, Heritage College, Confederated Tribes of the Colville Reservation, WA

Hoover, Jamie Ellen, Arizona School of Health Sciences, Chemehuevi Indian Tribe of the Chemehuevi Reservation, California

Hopkins, Delbert Samuel, University of North Dakota, Sisseton—Wahpeton Sioux Tribe of the Lake Traverse Reservation, SD

Horan, Therese Marie, Seattle University, Central Council of the Tlingit & Haida Indian Tribes

Houston, Lindsay Nicole, Bacone College, Cherokee Nation, Oklahoma

Howell, Jesse Ray, University of Central Oklahoma, Choctaw Nation of Oklahoma

Howeya, Lori Leon, University of New Mexico, Pueblo of Acoma, NM

Howling Wolf, William L., University of North Dakota, Three Affiliated Tribes of the Fort Berthold Reservation, ND

Hubbell, Nicholl Kristen, Arizona State University, Navajo Tribe of Arizona, New Mexico, & Utah

Hubbell, Rochelle Lynne, University of Arizona, San Carlos Apache Tribe of the San Carlos Reservation, AZ

Huber, Donna Marie, University of Phoenix, Rosebud Sioux Tribe of the Rosebud Indian Reservation, SD

Hulsey, Heidi Lynne, Portland Community College, Lummi Tribe of the Lummi Reservation, Washington

Humphreys, Christina Lilly, University of New Mexico, Navajo Tribe of Arizona, New Mexico, & Utah

Hunt, Matthew Hensdale, North Carolina State University, Lumbee

Hunter, Misty Rae, Oglala Lakota College, Oglala Sioux Tribe of the Pine Ridge Reservation, SD

Hyatt, Jacqueline Rooke, University of Oklahoma, Muskogee (Creek) Nation, Oklahoma

Hyden, Andreana Dee, Grand Canyon College, Navajo Tribe of Arizona, New Mexico, & Utah

Interpreter, Christina Lynn, Northern Arizona University, Hopi Tribe of AZ

Jackson, Candy Lou, Idaho State University, Bad River Band of the Lake Superior Tribe of Chippewa Indians of the Bad River Reservation, WI

Jackson, Melissa Sue, Northeastern Oklahoma A&M College, Eastern Shawnee Tribe of Oklahoma

James, Darrel Deon, Mountain View College, Choctaw Nation of Oklahoma

James, Jessica Natasha, Northern Arizona University, Navajo Tribe of Arizona, New Mexico, & Utah

James, Rachel, Albuquerque Technical Vocation, Navajo Tribe of Arizona, New Mexico, & Utah

James, Wendi Lee Ann, Southwestern Oklahoma State University, Choctaw Nation of Oklahoma

Janis, Fawn Renee, Ogalala Lakota College, Rosebud Sioux Tribe of the Rosebud Indian Reservation, SD

Jarvis, Pamela, College St. Scholastica, Lac Courte Oreilles Band of Lake Superior Chippewa Indians of Wisconsin

Jefferson, Deloris Ann, Murray State College, Chickasaw Nation of Oklahoma

Jefferson, Natalie Ruth, University of Kansas School of Social Welfare, Choctaw Nation of Oklahoma

Jensen, Janelle Blake, University of Arizona, Navajo Tribe of Arizona, New Mexico, & Utah

Joe, Felma Marie, Arizona State University, Navajo Tribe of Arizona, New Mexico, & Utah

Joe, John, Gateway Community College, Navajo Tribe of Arizona, New Mexico, & Utah

Johnson, Beverly Mae, University of Washington, Emmonak Village

Johnson, Elizabeth Jane, Central Oregon Community College, Confederated Tribes of the Warm Springs Reservation of Oregon

Johnson, Gini Azure, University of New Mexico, Assiniboine & Sioux Tribe of the Fort Peck Indian Reservation, MT

Johnson, Joyce-Melvina, Northeastern State University, Cherokee Nation, Oklahoma

Johnson, Kimberlee Jo, East Central University, Chickasaw Nation of Oklahoma

Johnson, Roxanne Marie, Univeristy of North Dakota, Turtle Mountain Band of Chippewa Indians of North Dakota

Johnson, Sausha Rae, University of Arizona, Navajo Tribe of Arizona, New Mexico, & Utah

Johnson, Tara Lee, Northern Arizona Univerisy, Navajo Tribe of Arizona, New Mexico, & Utah

Johnson, Yolanda, University of New Mexico, Navajo Tribe of Arizona, New Mexico, & Utah

Joice, Kara Lynn, University of Kansas, Cherokee Nation, Oklahoma

Joice, Kelly A., University of Oklahoma, Cherokee Nation, Oklahoma

Jones, Christopher Lee, University of North Dakota, Cherokee Nation, Oklahoma

Jones, Generosa Diane, Drake University College of Pharmacy, Choctaw Nation of Oklahoma

Jones, Julia M., Northern Arizona University, Navajo Tribe of Arizona, New Meixo, & Utah

Jordan, Jesse Melinda, University of Alaska Anchorage, Village of Kalskag

Joseph, Ruth, Arizona State University, Navajo Tribe of Arizona, New Mexico, & Utah

Julian, Serena Yazzie, University of New Mexico College of Pharmacy, Navajo Tribe of Arizona, New Mexico, & Utah

Jumbo, Ronald Dean, Northern Arizona University, Navajo Tribe of Arizona, New Mexico, & Utah

Juneau, Rose Ann, Salish-Kootenai Community College, Fort Belknap Indian Community of the Fort Belknap Reservation of Montana

Kanuho, Daryl, Mesa Community College, Navajo Tribe of Arizona, New Mexico, & Utah

Kardonsky, Kimberly Jay, Medical College of Wisconsin, Jamestown S'Klallam Tribe of Washington

Keel, Andrea Lynn, University of Oklahoma, Chickasaw Nation of Oklahoma

Kelley, Lynette Rae, Northern Arizona University, Navajo Tribe of Arizona, New Mexico, & Utah

Kelley, Ralph Zane, University Health Sciences College of Osteopathic Medicine, Cherokee Nation, Oklahoma

Kelley, Valerie, Northern Arizona University, Navajo Tribe of Arizona, New Mexico, & Utah

Kelliher, Allison Miranda, University of Washington School of Medicine, Nome Eskimo Community

Kenneth, Lena Mae, Arizona State University, Navajo Tribe of Arizona, New Mexico, & Utah

Keplin, Angela Ann, University of North Dakota, Turtle Mountain Band of Chippewa Indians of North Dakota

Ketcher, Jeremy Wayne, Connors State College, Cherokee Nation, Oklahoma

Kewenvoyouma, Vachel Rebecca, Yavapai College, Navajo Tribe of Arizona, New Mexico, & Utah

Kickingbird, Lauren Marie, University of Central Oklahoma, Kickapoo Tribe of Indians of the Kickapoo Reservation of Kansas

Kinlecheenie, Orlinda Lou, Northland Pioneer College, Navajo Tribe of Arizona, New Mexico, & Utah

Kinney, Sahar Amelia, Tufts University, Turtle Mountain Band of Chippewa Indians of North Dakota

Kirk, John Vincent, Oklahoma State University College of Osteopathic Medicine, Cherokee Nation, Oklahoma

Kramer, Erin Lea, University of Oklahoma, Cherokee Nation, Oklahoma

LaFromboise, Dawn Marie, University of North Dakota, Turtle Mountain Band of Chippewa Indians of North Dakota

LaFromboise, Sandy Marie, Minot State University, Tuttle Mountain Band of Chippewa Indians of North Dakota

Lambert, Marshelle Annette, Walla Walla College, Assiniboine & Sioux Tribes of the Fort Peck Indian Reservation, MT

Landers, Joseph Henry, East Central University, Muskogee (Creek) Nation, Oklahoma

Lang, Sharon W., Northern Arizona University, Navajo Tribe of Arizona, New Mexico, & Utah

Lansing, Letitia Bianca, University of New Mexico—Albuquerque, Navajo Tribe of Arizona, New Mexico, & Utah

Large, Stephanie Ashley, University of Oklahoma School of Social Work, Muskogee (Creek) Nation, Oklahoma

Lashley, Nathan James, Finch University of Health Services, Cherokee Nation, Oklahoma

Laurence, Kami Lynn, University of New Mexico, Navajo Tribe of Arizona, New Mexico, & Utah

Laurence, Stacie, University of New Mexico, Navajo Tribe of Arizona, New Mexico, & Utah

Lawrence, Gary Lynn, Northeastern State University, Choctaw Nation of Oklahoma

Lay, Pamela Christine, University of Phoenix, Muskogee (Creek) Nation, Oklahoma

Leader Charge, Lila Rose, Ogalala Lakota College, Rosebud Sioux Tribe of the Rosebud Indian Reservation, SD

Lee, Calbert Aaron, University of New Mexico—Albuquerque, Navajo Tribe of AZ NM & UT

Lee, Colleen Linda, Northern Arizona University, Navajo Tribe of Arizona, New Mexico, & Utah

Lee, Lori C., Northern Arizona University, Navajo Tribe of Arizona, New Mexico, & Utah

Leekity, Marilyn Kelley, University of New Mexico, Navajo Tribe of Arizona, New Mexico, & Utah

Leemhuis, Stephanie Brook, University of Oklahoma Health Sciences Center, Cherokee Nation, Oklahoma

Legarde, Victoria Leann, Gonzaga University, Arapahoe Tribe of the Wind River Reservation, WY

Lemas, Dominick Joseph, University of Vermont, Citizen Potawatomi Nation, Oklahoma

Leslie, Lerae J., Glendale Community College, Navajo Tribe of Arizona, New Mexico, & Utah

Lessert, Amanda Kaye, Creighton University, Oglala Sioux Tribe of the Pine Ridge Reservation, SD

Lewis, Erik Clay, Salish—Kootenai Community College, Confederated Salish & Kootenai Tribes of the Flathead Reservation, MT

Limphy, Cheyenne Rose, Montana State University School of Nursing, Northern Cheyenne Tribe of the Northern Cheyenne Indian Reservation, MT

Lincoln, Kelly Michelle, Boston College, Navajo Tribe of Arizona, New Mexico, & Utah

Littlefield, Teeoti Nicole, Seminole Junior College, Chickasaw Nation of Oklahoma

Lomay, Vicky Tsinnijinnie, Arizona State University, Navajo Tribe of Arizona, New Mexico, & Utah

Long, Christina Marie, University of South Dakota, Lower Brule Sioux Tribe of the Lower Brule Reservation, SD

Longhorn, Kaselyn Diane, East Central University, Absentee—Shawnee Tribe of Indians of Oklahoma

Longie, Michelle Renee, University of North Dakota, Turtle Mountain Band of Chippewa Indians of North Dakota

Looney, Joshua Carson, University of Oklahoma, Cherokee Nation, Oklahoma

Lopez, Candace Erin, University of New Mexico, Navajo Tribe of Arizona, New Mexico, & Utah

Lopez, Matthew Adam, Kansas State University, Walker River Paiute Tribe of the Walker River Reservation

Lowery, Brad Elliot, North Carolina State University, Lumbee

Loy, Arlene, University of New Mexico, Navajo Tribe of Arizona, New Mexico, & Utah

Lynch, Candace Andrea, Arizona State University, Navajo Tribe of Arizona, New Mexico, & Utah

Makai, Myra Demetria, University of New Mexico, Gila River Indian Community of the Gila River Indian Reservation, AZ

Malaterre, Jessica Kim, University of North Dakota, Turtle Mountain Band of Chippewa Indians of North Dakota

Maloney, Violet Spring, Northern Arizona University, Navajo Tribe of Arizona, New Mexico, & Utah

Mandan, Samona Fern, University of North Dakota, Assiniboine & Sioux Tribes of the Fort Peck Indian Reservation, MT

Marshall, Kristian Evan, Northeastern State University, Cherokee Nation, Oklahoma

Martin B, Carmelita A., University of New Mexico, Navajo Tribe of Arizona, New Mexico, & Utah

Martin-Feliz, Candelaria Cynthia, University of North Dakota, Navajo Tribe of Arizona, New Mexico, & Utah

Martinez, Kimberly Ann, Northeastern Oklahoma A&M College, Eastern Shawnee of Oklahoma

Martinez, Leah M., University of New Mexico, Pueblo of Acoma, NM

Martinez, Marie Jeannette, Weber State University, Navajo Tribe of Arizona, New Mexico, & Utah

Marvin, Misty Dawn, Oklahoma State University, Cherokee Nation, Oklahoma

Mason, Laquita Joy, University of Montana State School of Pharmacy, Three Affiliated Tribes of the Fort Berthold Reservation, ND

Mathis, Trina C., University of Phoenix, Navajo Tribe of Arizona, New Mexico, & Utah

Matt, Georgia Lee, University of Utah, Blackfeet Tribe of the Blackfeet Indian Reservation of Montana

Maxon, Jeff Allen, North Dakota State University, Cheyenne River Sioux Tribe of the Cheyenne River Reservation, SD

May, Katie Lynn, University of Oklahoma, Cherokee Nation, Oklahoma

McArthur, Anna K., North Dakota State University, Minnesota Chippewa Tribe, MN (White Earth Band)

McCabe, Devon Aurora, Northern Arizona University, Navajo Tribe of Arizona, New Mexico, & Utah

McCorkle, Cody W., University of Arkansas, Citizen Potawatomi Nation, Oklahoma

McCuistion, Robin Edward, Western Washington University, Aleut, AK

McGeshick, Cole David, Montana State University, Sokoagon Chippewa Community, WI

McGhee, Julie Lynette, University of Oklahoma Health Sciences Center, Poarch Band of Creek Indians of Alabama

McGilbary, Kristie Rae, Seminole State College, Kiowa Indian Tribe of Oklahoma

McGlothin, Travis Michael, Harvard Medical School, Pueblo of Laguna, NM

McKerry, Jason Amel, University of Arizona, Navajo Tribe of Arizona, New Mexico, & Utah

McLain, Stefanie Jeanne, Oklahoma State University, Cherokee Nation, Oklahoma

McLaughlin, Audrey Jane, Pierce Community College, Yurok Tribe of the Yurok Reservation, California

McNeal, Rebecca Lynne, Oklahoma University Health Science, Choctaw Nation of Oklahoma

Meeks, Alicia Ann, East Central Oklahoma State University, Chickasaw Nation of Oklahoma

Meets, Bridget Mae, University of Montana, Confederated Salish & Kootenai Tribes of the Flathead Reservation, MT

Mellon, Travis James, University of the Health Sciences College, Pueblo of Zia, NM

Menka, Nazune Meega, Arizona State University, Native Village of Koyuk

Merritt, Sarah Elisabeth, East Central Oklahoma State University, Cheyenne River Sioux Tribe of the Cheyenne River Reservation, SD

Miles, Mary Kristen, Northern Oklahoma College, Osage Tribe, Oklahoma

Miller, Amanda Stephanie, Northeastern State University, Cherokee Nation, Oklahoma

Miller, Carl Eugene, Northeastern State University, Muskogee (Creek) Nation, Oklahoma

Miller, Jacklyn Jean, University of North Dakota, Oglala Sioux Tribe of the Pine Ridge Reservation, SD

Miller, Priscilla Jean, University of Alaska, Agdaagux Tribe of King Cove

Mittelstedt, Richard L., Idaho State University, Shoeshone—Bannock Tribes of the Fort Hall Reservation of Idaho

Momberg, Christina Ann, Salish—Kootenai Community College, Blackfeet Tribe of the Blackfeet Indian Reservation of MT

Monette, Eugene Louis, University of North Dakota, Turtle Mountain Band of Chippewa Indians of North Dakota

Montano, Alicia Dawn, University of Arizona—Tucson, Navajo Tribe of Arizona, New Mexico, & Utah

Moore, Jennifer Marie, University of New Mexico—Albuquerque, Navajo Tribe of Arizona, New Mexico, & Utah

Morgan, Norena, Arizona State University, Navajo Tribe of Arizona, New Mexico, & Utah

Morris, Elizabeth Lynette, University of Oklahoma, Muskogee (Creek) Nation, Oklahoma

Morris, Jeffrey Scott, University of Minnesota, Quechan Tribe of Fort Yuma Indian Reservation, California and Arizona

Morris, Winifred, University of New Mexico, Navajo Tribe of Arizona, New Mexico, & Utah

Morrison, Clint Justin, University of Oklahoma, Chocktaw Nation of Oklahoma

Morrison, Gerlinde Maria, University of Montana, Crow Tribe of Montana

Mousseau, Francine Louise, University of North Dakota, Oglala Sioux Tribe of the Pine Ridge Reservation, SD

Murphy, Tamelot Lynne, University of New Mexico—Albuquerque, Navajo Tribe of Arizona, New Mexico, & Utah

Murray, Carl Arthur, Oklahoma State University, Choctaw Nation of Oklahoma

Murray, Kerry William, University of Colorado, Shoshone Tribe of the Wind River Reservation, Wyoming

Muskett, Eunice Annazbah, University of New Mexico—Albuquerque, Navajo Tribe of Arizona, New Mexico, & Utah

Myron, Micah Aaron, Walla Walla College, Hopi Tribe of Arizona

Naasz, Katrina Hillary, University of Colorado, Navajo Tribe of Arizona, New Mexico, & Utah

Nadeau, Shawn Rochelle, Viterbo College, Turtle Mountain Band of Chippewa Indians of North Dakota

Nahno-Kerchee, Walter Jay, Oklahoma University Health Science College, Comanche Nation, Oklahoma

Namingha, Emery, University of New Mexico, Zuni Tribe of the Zuni Reservation, NM

Nelson, Shannon Lynn, University of New Mexico, Navajo Tribe of Arizona, New Mexico, & Utah

Nephew-Kennedy, Lesley Ellen, SUNY at Buffalo School of Social Work, Seneca Nation of New York

Nez, Eldonna Ida, University of Alaska, Navajo Tribe of Arizona, New Mexico, & Utah

Nez, Lula, New Mexico Highland University, Navajo Tribe of Arizona, New Mexico, & Utah

Nicks, Deanna Marie, Pima Medical Institute—Mesa, Hopi Tribe of Arizona

Nidiffer-Shelor, Amber Lynn, University of Oklahoma, Cherokee Nation, Oklahoma

Nilchee, Gregory Hashke Yitahoogal, University of New Mexico, Navajo Tribe of Arizona, New Mexico, & Utah

Nimsey, Dallas Micah, Southwestern Oklahoma State University, Kiowa Indian Tribe of Oklahoma

Nioce, Paul Anthony, Washburn University, Citizen Potawatomi Nation, Oklahoma

Noisy Hawk, Lyle James, Harvard University School of Education, Oglala Sioux Tribe of the Pine Ridge Reservation, SD

North, Elizabeth Marie, Eastern Oregon University, Confederated Tribes of the Siletz Reservation, OR

Odaye, Deena May, Grand Canyon College, Reno—Sparks Indian Colony, NV

Okleasik, Sara A., Pacific University, Nome Eskimo Community

Old Elk, Georgianna WW, American University, Assiniboine & Sioux Tribes of the Fort Peck Reservation, MT

Olic, Latona Michelle, University of Wyoming School of Pharmacy, Oglala Sioux Tribe of the Pine Ridge Reservation, SD

Oliver, Jody Ann, Boise State University, Shoshone—Bannock Tribes of the Fort Hall Reservation of Idaho

O'Neal, Jamie Diane, Northern State University, Cheyenne River Sioux Tribe of the Cheyenne River Reservation, SD

Oosahwe, Christen Brook, Northeastern State University, Cherokee Nation, Oklahoma

Osborn, Kasie D., Carl Albert State College, Cherokee Nation, Oklahoma

Owens, Johnie Louis, Kirksville College of Osteopathic Medicine, Choctaw Nation of Oklahoma

Oxford, Dustin Joseph, Northeastern State University, Cherokee Nation, Oklahoma

Padilla, Tessia Marie, Albuquerque Technical Vocation, Pueblo of San Felipe, NM

Paniagua, Calvin Frederick, Arizona School of Health Sciences, Little Traverse Bay Bands of Odawa Indians, Michigan

Pappan, Cynthia Rae, Creighton University School of Pharmacy, Turtle Mountain Band of Chippewa Indians of North Dakota

Parker, Mahate Ann, East Central University, Comanche of Oklahoma

Parker, Rahnia Jean, University of Alaska System, Native Village of Kipnuk

Paul, Kimberly Lynn, Blackfeet Community College, Blackfeet Tribe of the Blackfeet Indian Reservation of MT

Pecoss, Susanna Elizabeth, University of New Mexico, Pueblo of Cochiti, NM

Peltier, Crystal Gayle, University of North Dakota, Turtle Mountain Band of Chippewa Indians of North Dakota

Pepper, Traci Danielle, Tricounty Community College, Eastern Band of Cherokee Indians, North Carolina

Peratrovich, Valene Maria, Oregon State University, Alaska Native

Perdue, Mark Wayne, University of Oklahoma, Cherokee Nation, Oklahoma

Pereira, Christina Charlene Bell, University of Arizona, Tohono O'odham Nation of Arizona

Pete, Lyle Henry, Mesa Community College, Navajo Tribe of Arizona, New Mexico, & Utah

Peterman, Sawyer, Dine College, Navajo Tribe of Arizona, New Mexico, & Utah

Peterson-Lewis, Annie May, University of Alaska, Aleut, AK

Pfilger, Natasha Renee, University of North Dakota, Three Affiliated Tribes of the Fort Berthold Reservation, ND

Phillips, Cara Leigh, University of Arizona, Navajo Tribe of Arizona, New Mexico, & Utah

Phillips, Crystal Lea, University of Oklahoma, Cherokee Nation, Oklahoma

Platta, Veralyn, New Mexico State University, Mescalero Apache Tribe of the Mescalero Reservation, NM

Pleasants, Tina Marie, Washington State University, Central Council of the Tlingit & Haida Indian Tribes

Pletnikoff, Elise Marie, Carroll College, Shoonaq Tribe of Kodiak, Alaska Native

Poe, Jill R., Northeastern State University, Osage Tribe, Oklahoma

Poolaw, Audrey Winnie, Southwestern Oklahoma State University, Comanche Nation, OK

Price, Aaron Joseph, University of New Mexico, Navajo Tribe of Arizona, New Mexico, & Utah

Puhuyaoma, Tammy Kaee, Coconino County Community College, Hopi Tribe of Arizona

Randy-Veinote, Ruth W., University of the Pacific, Comanche Nation, OK

Rainwater, Chelsea Lurie, College of Charleston, Pee Dee Indian Association

Rand, Kevin Bruce, University of Wisconsin, Minnesota Chippewa Tribe, MN (White Earth Band)

Rasor, Joseph James, Midwestern University, Navajo Tribe of Arizona, New Mexico, & Utah

Razote, Antoinette Jo, Central Washington University, Sisseton-Wahpeton Sioux Tribe of the Lake Traverse Reservation, SD

Red Elk, Lindsey Beth, Arizona State University, Assiniboine & Sioux Tribes of the Fort Peck Indian Reservation, MT

Redsteer, Sandra Jeanette, Northern Arizona University, Navajo Tribe of Arizona, New Mexico, & Utah

Renfrow, Miranda Kirstin, Northeastern State University, Choctaw Nation of Oklahoma

Reynolds, Joel Wayne, University of South Dakota, Rosebud Sioux Tribe of the Rosebud Indian Reservation, SD

Rice, Lily A., Mankato State College, Prairie Band Potawatomi Nation, KS

Richan, Eilene Faye, Turtle Mountain Community College, Turtle Mountain Band of Chippewa Indians of North Dakota

Richards, Spencer L., Black Hills State University, Oglala Sioux Tribe of the Pine Ridge Reservation, SD

Riding In, Debra Sue, Oregon State University School of Pharmacy, Confederated Tribes of the Siletz Reservation, OR

Riffe, Evelyn Laura, Oregon State University, Hooper Bay

Riley, Gail Arlene, Albuquerque Tech-Voc Institute, Pueblo of Nambe, NM

Riley, Rebecca C., University of New Mexico, Pueblo of Acoma, NM

Ringer Knudson, Nicolette Jean, University of Minnesota, Sisseton-Wahpeton Sioux Tribe of the Lake Traverse Reservation, SD

Robideau, Eileen Catherine, University of Alaska, Nenana Native Association

Robinson, Charlene, University of Arizona College of Medicine, Navajo Tribe of Arizona, New Mexico, & Utah

Robison-Rivera, Kristie Marie, Southwestern Oklahoma State University, Apache Tribe of Oklahoma

Rogers, Brandon Scott, Northeastern University, Cherokee Nation, Oklahoma

Roselius, Kassi, Southern Nazarene University, Citizen Potawatomi Nation, Oklahoma

Rouillard, Allison Marie, University of North Dakota, Sisseton-Wahpeton Sioux Tribe of the Lake Traverse Reservation, SD

Rouse, Brant Philip, University of Oklahoma, Cherokee Nation, Oklahoma

Ruleford, Miranda Louisa, University of Tula, Cherokee Nation, Oklahoma

Sahmaunt, Marcia Ann, University of Oklahoma, Kiowa Indian Tribe of Oklahoma

Salois-Albert, Shaundra Marie, Salish Kootenai College, Confederated Salish & Kootenia Tribes of the Flathead Reservation, MT

Sanders, Chatherine Blythe, University of North Carolina, Eastern Band of Cherokee Indians of North Carolina

Sanders, Michael Shawn, University of Oklahoma, Cherokee Nation, Oklahoma

Sanderson, Kendra Marie, University of Arizona, Navajo Tribe of Arizona, New Mexico, & Utah

Sando, Alberta Aleta, University New Mexico, Pueblo of Jemez, NM

Sando, Larnell Marie, New Mexico State University, Pueblo of Jemez, NM

Sandoval, Racheal Michele, Arizona State University, Navajo Tribe of Arizona, New Mexico, & Utah

Sawney, Laura Renee, Northeastern State University, Cherokee Nation, Oklahoma

Scabbyrobe, Earl-Dean, Salish Kootenai College, Blackfeet Tribe of the Blackfeet Indian Reservation of MT

Scalpcane-Moore, Lavonne Jean, Salish-Kootenia Community College, Northern Cheynne Tribe of the Northern Cheyenne Indian Reservation MT

Schmidt, Erin Michelle, Oklahoma State University, Muskogee (Creek) Nation, Oklahoma

Schmitt, Joel Gavin, Boise State University, Jamestown Klallam Tribe of Washington

Scott, Jessica Robin, University of Washington, Central Council of the Tlingit & Haida Indian Tribes

Scott, Steven Ray, Southwestern Oklahoma State University, Cherokee Nation, Oklahoma

Seyler, Debra Jean, Northland Pioneer College, Confederated Salish & Kootenai Tribes of the Flathead Reservation MT

Shangin, Nicole Danielle, Seattle Pacific University, Ivanoff Bay Village

Shea, Tamara Renee, University of Alaska System, Athabascan Alaska Native

Shelly, Amanda Elaine, Bacone College, Cherokee Nation, Oklahoma

Shepard, Christopher Allan Joseph, Pomona College, Santee Sioux Tribe of the Santee Reservation of Nebraska

Shinn-Jones, Darcy Marie, Northeastern State University, Cherokee Nation, Oklahoma

Shipton, Virginia Helen, University of Alaska, Native Village of St. Michael

Show, Michelle, University of Washington, Fort Belknap Indian Community of the Fort Belknap Reservation of Montana

Shutiva, Derek J., Newman University, Pueblo of Acoma, NM

Silvers, Kristin Gail, University of New Mexico—Gallup, Navajo Tribe of Arizona, New Mexico, & Utah

Simmons, Jeremiah David, Stanford University, Yankton Sioux Tribe of South Dakota

Simonson, Germaine, Arizona State University, Navajo Tribe of Arizona, New Mexico, & Utah

Sirany, Anne-Marie Elizabeth, Boston University, Minnesota Chippewa Tribe, MN (White Earth Band)

Sirmans, Jayna Deneice, University of Houston College of Optometry, Choctaw Nation of Oklahoma

Skaggs, Amanda Marie, Northeastern State University, Cherokee Nation, Oklahoma

Slyker, Amanda Colleen, Macalester College Blackfeet Tribe of the Blackfeet Indian Reservation of MT

Slyker, J. Nikolas, University of Montana, Blackfeet Tribe of the Blackfeet Indian Reservation of MT

Smart, Ned R., New Mexico Highland University, Navajo Tribe of Arizona, New Mexico, & Utah

Smith, Angele Marie, Lewis and Clark State College, Shoshone-Pauite Tribes of the Duck Valley Reservation, NV

Smith, Dallas Rockford, Grand Canyon College, Navajo Tribe of Arizona, New Mexico, & Utah

Smith, Eliza-Mae C., Bacone College, United Keetoowah Band of Cherokee Indians in Oklahoma

Smith, Jaaniece Rene, University of Arizona, Navajo Tribe of Arizona, New Mexico, & Utah

Smith, Patricia K., Fort Peck Community College, Assiniboine & Sioux Tribes of the Fort Peck Indian Reservation, MT

Smith, Phyllis Marie, Montana State University, Fort Belknap Indian Community of the Fort Belknap Reservation of Montana

Smith, Seneca Martin, University of Oklahoma Health Science, Muskogee (Creek) Nation, Oklahoma

Smith, Stephaine, Northern Arizona University, Navajo Tribe of Arizona, New Mexico, & Utah

Spears, Raina Ann, Oklahoma State University, Choctaw Nation of Oklahoma

Spencer, Anne P., University of New Medico—Gallup, Navajo Tribe of Arizona, New Mexico, & Utah

Spoon, Shawna Francene, University of Oklahoma, Sac & Fox Nation, Oklahoma

Spotted Horse, Patricia Jean, American University, Standing Rock Sioux Tribe of N. & S. Dakota

St. Claire, Billie Jo, North Dakota University, Turtle Mountain Band of Chippewa Indians of North Dakota

St. Claire, Rhea Neachet, University of North Dakota, Turtle Mountain Band of Chippewa Indians of North Dakota

Stachura, Christopher Jose, University of Kansas, Menominee Indian Tribe of Wisconsin

Starr, Daniel Curtis, University of North Dakota, Three Affiliated Tribes of the Fort Berthold Reservation, ND

Stewart, Rodney Shane, Rogers State College, Cherokee Nation, Oklahoma

Still, Melissa Brook, University of Central Arkansas, Cherokee Nation, Oklahoma

Stone, Meghan Brooke, University of Central Arkansas, Cherokee Nation, Oklahoma

Stout, Lana Dawn, Oklahoma State University, Cherokee Nation, Oklahoma

Stoope, Rebekah Sue, University of Central Oklahoma, Choctaw Nation of Oklahoma

Succo, Delores Ann, Northern Arizona University, Navajo Tribe of Arizona, New Mexico, & Utah

Sun Rhodes, Neil Altair, Oregon Health Sciences University, Arapahoe Tribe of the Wind River Reservation, Wyoming

Sweeney, Michael Aaron, Brigham Young University, Choctaw Nation of Oklahoma

Tapahe, Sharon Jean, Brigham Young University, Navajo Tribe of Arizona, New Mexico, & Utah

Tapp, Jamie Lynn, Oklahoma City University, Chickasaw Nation of Oklahoma

Tawyesva, Yoland Lei, Northland Pioneer College, Hopi Tribe of Arizona

Taylor, Alexandra Ana, University of Alaska School of Nursing, Native Village of Shishmaref

Teasyatwho, Arlene Jean, Northern Arizona University, Navajo Tribe of Arizona, New Mexico, & Utah

Teller, Pamela, Arizona State University, Narragansett Indian Tribe of Rhode Island

Teller, Terry Lee, University of New Mexico—Albuquerque, Navajo Tribe of Arizona, New Mexico & Utah

Ten Fingers, Javan Anthony, John F. Kennedy University, Oglala Sioux Tribe of the Pine Ridge Reservation, SD

Tenequer, Valerie Leigh, Arizona State University, Navajo Tribe of Arizona, New Mexico, & Utah

Tenorio, Rachell Marie, University of New Mexico, Pueblo of Santo Domingo, NM

Thomas, Curtiss—Lee, Northwest Technical College, Turtle Mountain Band of Chippewa Indians of North Dakota

Thomas, Jacob Frederick, Concordia College, Turtle Mountain Band of Chippewa Indians of North Dakota

Thompson, Benjamin Campbell, Northeastern State University, Cherokee Nation, Oklahoma

Thompson, Jennifer Lynn, Western Carolina University, Eastern Band of Cherokee Indians of North Carolina

Thompson, Lorinda, Northland Pioneer College, White Mountain Apache Tribe of the Fort Apache Reservation, AZ

Thompson, Paula Gail, Gateway Community College, Navajo Tribe of Arizona, New Mexico, & Utah

Thompson, Stacey Marie, University of New Mexico College of Pharmacy, Navajo Tribe of Arizona, New Mexico, & Utah

Thompson, Toshina Krystal, Fort Lewis College, Navajo Tribe of Arizona, New Mexico, & Utah

Tiger, Brandy Susan, Arizona School of Health Sciences, Muskogee (Creek) Nation, Oklahoma

Tillman, Amy Beth, University of Central Oklahoma, Choctaw Nation of Oklahoma

Toadlena, Evelyn, University of New Mexico, Navajo Tribe of Arizona, New Mexico, & Utah

Todicheeney, Sharon Ann, Northern Arizona University, Navajo Tribe of Arizona, New Mexico, & Utah

Tom, Ardith Renee, New Mexico State University, Navajo Tribe of Arizona, New Mexico, & Utah

Tom, Jennifer Michell, Hunter College, Choctaw Nation of Oklahoma

Toppah, Teresa Ann, Tarrant County College, Kiowa Indian Tribe of Oklahoma

Torralba, Vernon Charles, College of St. Scholastica, Crow Tribe of Montana

Torres, Michelle Lynn, Heritage College, Chippewa—Creek Indians of the Rocky Boy's Reservation, MT

Townsend, Travis J., University of New Mexico, Pueblo of Acoma, NM

Toya, Alleyne U., TVI Community College, Pueblo of Laguna, NM

Tracy, Cassandra Glenbah, Arizona State University, Navajo Tribe of Arizona, New Mexico, & Utah

Trimm, Amber—Ladawn, East Central University, Cheyenne River Sioux Tribe of the Cheyenne River Reservation, SD

Trombley, Diana Lynn, Salish Kootenai Community College, Blackfeet Tribe of the Blackfeet Indian Reservation of MT

Trujillo, Jesse Juan, University of Washington, Pueblo of San Juan, NM

Tsethlikai, Tami—Denice, University of New Mexico—Albuquerque, Zuni Tribe of the Zuni Reservaiton, NM

Tsingine, Georgia Lynn, University of Arizona College of Medicine, Navajo Tribe of Arizona, New Mexico, & Utah

Tso, Joann Carla, University of New Mexico—Gallup, Navajo Tribe of Arizona, New Mexico, & Utah

Tso, Vera Jane, University of New Mexico—Gallup, Navajo Tribe of Arizona, New Mexico, & Utah

Tso-Garcia, Jennifer Lynn, University of Washington, Navajo Tribe of Arizona, New Mexico, & Utah

Tsosie, Roberta Ann, Long Technical College, Navajo Tribe of Arizona, New Mexico, & Utah

Tunnell, Kimberly Renee, Oklahoma State University, Kiowa Indian Tribe of Oklahoma

Tupponce, Thomas Edward, Old Dominion University, Upper Mattaponi Indian Tribe

Turney, Jarett Brandon, Marquette University Dental School, Cherokee Nation, Oklahoma

Tveit, Adrienne Hilda, Washington State University, Central Council of the Tlingit & Haida Indian Tribes

Uhl, Sarah Elizabeth, Baylor University, Cherokee Nation, Oklahoma

Underwood, Eugenia Raeann, East Central Oklahoma State University, Mississippi Band of Choctaw Indians, MS

Uttchin, Venus, University of Oklahoma, Muskogee (Creek) Nation, Oklahoma

Valdo, Gerald David, Colorado State University, Pueblo of Acoma, NM, NM

Van Winkle, Tom R., Trinity Christian College, Navajo Tribe of Arizona, New Mexico, & Utah

Vance, Ronda Lynn, University of North Dakota, Muskogee (Creek) Nation, Oklahoma

Vargas, Raquel Ann, University of Texas Medical Branch—Galveston, Choctaw Nation of Oklahoma

Varnell, Cassidy Gertrude, Connors State College, Cherokee Nation, Oklahoma

Velasquez, Mary Christina, New Mexico Highlands University, Southern Ute Tribe

Vlasoff, Martha Jay, University of Alaska—Anchorage, Native Village of Eyak (Cordova)

Wagner, John William, Montana State University—Bozeman, Blackfeet Tribe of the Blackfeet Indian Reservation of MT

Walker, Erin Frances, University of Wisconsin, Little Traverse Bay Bands of Odawa Indiana, MI

Walker, Jonathan Bayless, Oklahoma Christian College, Choctaw Nation of Oklahoma

Walker, Marshall Austin, University of Oklahoma—Norman, Cherokee Nation, Oklahoma

Walker, Stacee Lynn, University of Arizona, Navajo Tribe of Arizona, New Mexico, & Utah

Wallace, Kacey Leann, Oklahoma State University College of Osteopathic Medicine, Choctaw Nation of Oklahoma

Walton, Amber Nicole, Washington University, Navajo Tribe of Arizona, New Mexico, & Utah

Wanna, Nicholas Lee, Northwestern Health Services, Sisseton—Wahpeton Sioux Tribe of the Lake Traverse Reservation, SD

Waquie, Monica Janet, New Mexico Highlands University, Pueblo of Jemez, NM

Ward, Micah N., Oklahoma City Community College, Citizen Potawatomi Nation, OK

Ward, Rolanda Reason, University of Alaska Anchorage, Egegik Village

Wartz, Kaye Ellen, Northern Arizona University, Navajo Tribe of Arizona, New Mexico, & Utah

Wasin Zi, Fawn Catherine, University of Maryland, Standing Rock Sioux Tribe of North and South Dakota

Watford, Velma Jean, Pima Community College, Navajo Tribe of Arizona, New Mexico, & Utah

Watson, Matthew Mendioro, Columbia University College of Physicians & Surgeons, Ottawa Tribe of Oklahoma

Watts, Candace Summerz, Sweet Briar College, Navajo Tribe of Arizona, New Mexico, & Utah

West, Jonathan Lee, Northeastern State University, Cherokee Nation, Oklahoma

White, Erin Janet, University of North Carolina—Chapel Hill, Lumbee

White, Karen Ann, Apollo College, Navajo Tribe of Arizona, New Mexico, & Utah

Whiteface, Angel Rose, Oglala Lakota College, Oglala Sioux Tribe of the Pine Ridge Reservation, SD

Whitechair, Robbie Gayle, University of New Mexico, Navajo Tribe of Arizona, New Mexico, & Utah

Whitechair, Rosalita Marie, University of Arizona College of Medicine, Navajo Tribe of Arizona, New Mexico, & Utah

Whitehorse, Veronica Ann, San Diego State University, Navajo Tribe of Arizona, New Mexico, & Utah

Widmyer, Janet May, University of Alaska, Ketchikan Indian Corp

Wilbourn, Crystal Lea, Belmont University, Cherokee Nation, Oklahoma

Wiley, Matthew Hallett, East Central University, Muskogee (Creek) Nation, Oklahoma

Wilkerson, Thaddus Donavan, University of New Mexico—Albuquerque, Navajo Tribe of Arizona, New Mexico, & Utah

Willcuts, Peggy Sue, South Dakota State University, Rosebud Sioux Tribe of the Rosebud Indian Reservation, SD

Willeto, Virginia, University of New Mexico—Gallup, Navajo Tribe of Arizona, New Mexico, & Utah

Williams Burns, Amanda Kay, Southwestern Oklahoma State University, Muskogee (Creek) Nation, Oklahoma

Williams, Rhonda Lynette, University of New Mexico—Albuquerue, Navajo Tribe of Arizona, New Mexico, & Utah

Williams, Scott Bradley, Northeastern State University, Cherokee Nation, Oklahoma

Willman, Peggy Ann, University of Alaska, Native Village of Ambler

Wilson, Chase Te, Southeastern Oklahoma State University, Muskogee (Creek) Nation, Oklahoma

Wilson, Dena Lynn, University of Washington School of Medicine, Oglala Sioux Tribe of the Pine Ridge Reservation, SD

Wilson, Ellen Lucille, University of North Dakota, Three Affiliated Tribes of the Fort Berthold Reservation, ND

Wilson, Kelli Rae Lee, University of New Mexico—Albuquerque, Seminole Nation of Oklahoma

Wilson, Sunni Elaine, Northeastern State University, United Keetoowan Band of Cherokee Indians in Oklahoma

Windam, Tera Beth, Northeastern State University, Cherokee Nation, Oklahoma

Windship, Venita Lynn, Eastern Oklahoma State College, Choctaw Nation of Oklahoma

Wiseman, Toni Jeanne, Oklahoma City University, Muskogee (Creek) Nation, Oklahoma

Wood, Chad Nathaniel, University of Utah College of Medicine, Cherokee Nation, Oklahoma

Woodard, Amanda-Lea, University of Oklahoma—Norman, Cherokee Nation, Oklahoma

Woodard, David Rush, University of Missouri, Osage Tribe, OK

Woodruff, Patience M., University of North Dakota, Rosebud Sioux Tribe of the Rosebud Indian Reservation, SD

Woods, Lacy Ann, East Central University, Chickasaw Nation of Oklahoma

Worker-Geiger, Shanna Renee, Grand Canyon University, Navajo Tribe of Arizona, New Mexico, & Utah

Wright, Theodore Charles, University of Alaska, Central Council of the Tlingit & Haida Indian Tribes

Yandell, Seth David, University of Texas Medical Branch—Galveston, Choctaw Nation of Oklahoma

Yarbrough, Latasha Renee, Rose State College, Cheyenne-Arapaho Tribes of Oklahoma

Yazzie, Abiegail B., New Mexico Highlands University, Navajo Tribe of Arizona, New Mexico, & Utah

Yazzie, Carmelita Jean, University of New Mexico—Gallup, Navajo Tribe of Arizona, New Mexico, & Utah

Yazzie, Charisse Lindsey, Arizona State University,, Navajo Tribe of Arizona, New Mexico, & Utah

Yazzie, Kathleen Elaine, Indiana University East, Narragansett Indian Tribe of Rhode Island

Yazzie, Maria, University of New Mexico—Albuquerque, Navajo Tribe of Arizona, New Mexico, & Utah

Yazzie, Nazhone Paul, University of Arizona College of Medicine, Navajo Tribe of Arizona, New Mexico, & Utah

Yazzie, Olivia, North Arizona University, Navajo Tribe of Arizona, New Mexico, & Utah

Yazzie, Sharon, Northern Arizona University, Navajo Tribe of Arizona, New Mexico, & Utah

Yazzie, Shelia Rae, Northern Arizona University, Navajo Tribe of Arizona, New Mexico, & Utah

Yazzie, Shihomi Rae, University of New Mexico—Albuquerque, Navajo Tribe of Arizona, New Mexico, & Utah

Yazzie, Timothy, Midwestern University, Navajo Tribe of Arizona, New Mexico, & Utah

Yazzie-Francisco, Myra Lynn, Phoenix College, Navajo Tribe of Arizona, New Mexico, & Utah

Yellowhair, Jeannine Ann, New Mexico State University, Navajo Tribe of Arizona, New Mexico, & Utah

Young, Naomi Jean, University of Arizona, Navajo Tribe of Arizona, New Mexico, & Utah

Young, Sawar Chalutch, University of Washington, Yurok Tribe of the Yurok Reservation, California

Young Wallace, Liana J., University of Alaska Southeast, Central Council of the Tlingit & Haida Indian Tribes

Yuselew, Aaron, Pima Medical Institute—Albuquerque, Zuni Tribe of the Zuni Reservation, NM

Zachery, Kathryn Sue, University of Oklahoma—Norman, Muskogee (Creek) Nation, Oklahoma

Zahne, Janis Ivy, Arizona State University, Navajo Tribe of Arizona, New Mexico, & Utah

Zospah, Raelene Dee, Montana State University, Navajo Tribe of Arizona, New Mexico, & Utah

Zuni, Angelica Celeste, Fort Lewis College, Pueblo of Isleta, NM

Zwaryck, Shelby Leona, University of Montana School of Pharmacy, Chippewa-Cree Indians of the Rocky Boys Reservation, MT

Zwaryck, Tonk Marie, Salish Kootenai College, Chippewa-Cree Indians of the Rocky Boys Reservation, MT

FOR FURTHER INFORMATION CONTACT: The Indian Health Service Scholarship Branch, Twinbrook Metro Plaza, 12300 Twinbrook Parkway, Suite 100, Rockville, Maryland 20852, Telephone: (301) 443-6197, Fax: (301) 443-6048.

Dated: June 2, 2003.
Charles W. Grim,
Assistant Surgeon General, Interim Director, Indian Health Service.

[FR Doc. 03-14393 Filed 6-6-03; 8:45 am]

BILLING CODE 4160-16-M